DEPARTMENT OF COMMERCE

National Oceanic and Atmospheric Administration

[I.D. 081203D]

New England Fishery Management Council; Public Meetings

AGENCY: National Marine Fisheries Service (NMFS), National Oceanic and Atmospheric Administration (NOAA), Commerce.

ACTION: Notice of a public meeting.

SUMMARY: The New England Fishery Management Council (Council) is scheduling a public meeting of its Marine Protected Areas Oversight Committee in September, 2003, to consider actions affecting New England fisheries in the exclusive economic zone (EEZ). Recommendations from this group will be brought to the full Council for formal consideration and action, if appropriate.

DATES: The meeting will be held on Wednesday, September 10, 2003, at 9:30 a.m.

ADDRESSES: The meeting will be held at the Radisson Plymouth Hotel, 180 Water Street, Plymouth, MA 02360; telephone: (508) 747-4900.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Marine Protected Areas (MPA) Committee will review and develop a position of the Council regarding MPAs; review Federal Register notice on MPAs and an Inventory of Existing Marine Managed Areas and develop a response for the Council to submit during the public comment period. The committee will also develop a work plan for MPA issues for consideration by the Council in its 2004 priorities.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: August 12, 2003.
Richard W. Surdi,
Acting Director, Office of Sustainable Fisheries, National Marine Fisheries Service.

[FR Doc. 03-21046 Filed 8-15-03; 8:45 am]

BILLING CODE 3510-22-S